ARCHITECTURAL AND TRANSPORTATION BARRIERS COMPLIANCE BOARD

36 CFR Part 1195

[Docket No. 2004-1]

RIN 3014-AA11

Americans With Disabilities Act (ADA) Accessibility Guidelines for Passenger Vessels; Large Vessels

AGENCY: Architectural and Transportation Barriers Compliance Board.

ACTION: Availability of draft guidelines; notice of hearing.

SUMMARY: The Architectural and Transportation Barriers Compliance Board (Access Board) has placed in the docket and on its Web site for public review and comment draft guidelines which address accessibility to and in passenger vessels which are permitted to carry more than 150 passengers or more than 49 overnight passengers. Comments will be accepted on the draft guidelines and the Access Board will consider those comments prior to issuing a notice of proposed rulemaking.

DATES: Comments on the draft guidelines must be received by March 28, 2005. Late comments will be considered to the extent practicable. The Access Board will hold a hearing on January 10, 2005 from 1:30 p.m. until 4:30 p.m.

ADDRESSES: Comments should be sent to the Office of Technical and Information Services, Architectural and Transportation Barriers Compliance Board, 1331 F Street NW., Suite 1000, Washington, DC 20004-1111. E-mail comments should be sent to pvag@access-board.gov. Comments sent by e-mail will be considered only if they contain the full name and address of the sender in the text. Comments will be available for inspection at the above address from 9 a.m. to 5 p.m. on regular business days. The hearing on January 10, 2005 will be held at the Marriott at Metro Center Hotel, 775 12th Street, NW., Washington, DC 20005.

FOR FURTHER INFORMATION CONTACT: Paul Beatty, Office of Technical and Information Services, Architectural and Transportation Barriers Compliance Board, 1331 F Street, NW., Suite 1000, Washington DC 20004-1111. Telephone number (202) 272-0012 (voice); (202) 272-0082 (TTY); Electronic mail address: pvag@access-board.gov.

SUPPLEMENTARY INFORMATION: In 1998, the Access Board established a 21-member Federal advisory committee to provide recommendations to assist the Board in developing passenger vessel accessibility guidelines. The committee included disability organizations, industry trade groups, State and local government agencies, and passenger vessel operators. The Passenger Vessel Access Advisory Committee (PVAAC) met nine times between September 1998 and September 2000 and submitted a final report “Recommendations for Accessibility Guidelines for Passenger Vessels” (http://www.access-board.gov/pvaac/commrept/index.htm) to the Board in December 2000. The PVAAC report provided recommendations on access to elements, rooms, spaces, and facilities on passenger vessels and how to provide access on and off such vessels.

The Access Board convened an ad hoc committee of Board members to review the PVAAC report. After reviewing the PVAAC report in detail, the Board's ad hoc committee prepared draft guidelines addressing accessibility to and in passenger vessels which carry more than 150 passengers or more than 49 overnight passengers. The Access Board is making the recommendations of the ad hoc committee available in the form of draft guidelines for public review and comment prior to issuing a notice of proposed rulemaking. The Board's draft guidelines along with supplementary information have been placed in the rulemaking docket and on the Board's Web site. The Board will issue a notice of proposed rulemaking (NPRM) following a review of comments received.

In addition to welcoming written comments, the Board will hold a hearing on January 10, 2005 to give the public an additional opportunity to provide input on the Board's draft guidelines. Interested members of the public are encouraged to contact the Access Board at (202) 272-0012 (voice) or (202) 272-0082 (TTY) to pre-register to attend the hearing. A second hearing may be held later in 2005. The location, date, and time of the second hearing will be announced in a subsequent Federal Register notice and on the Board's Web site. The hearings will be accessible to persons with disabilities. Sign language interpreters and an assistive listening system will be available. Persons attending the hearings are requested to refrain from using perfume, cologne, and other fragrances for the comfort of other participants.

The Board has also drafted a plan for conducting a regulatory assessment of the passenger vessels guidelines. The plan provides for evaluating the potential impacts of the guidelines on new construction of passenger vessels through case studies, and outlines some methods for examining the impacts of the guidelines on alterations to passenger vessels. The plan is available for public review and the Board invites comment on the plan. Also, today the Board published an advance notice of proposed rulemaking (ANPRM) in the Federal Register to gather information on accessibility to and in smaller passenger vessels. This information will assist the Board in developing a proposed rule on accessibility guidelines for passenger vessels which carry 150 or fewer passengers or 49 or fewer overnight passengers.

The Department of Transportation (DOT) is conducting a separate rulemaking to adopt the Access Board's guidelines as accessibility standards for passenger vessels covered by the ADA. The DOT rulemaking will also address operational issues related to passenger vessels. DOT has issued a separate advance notice of proposed rulemaking (ANPRM) in today's Federal Register related to its rulemaking.

Availability of Copies and Electronic Access

Single copies of the passenger vessels rulemaking (Availability of Draft Guidelines, Draft Guidelines and Supplementary Information, Draft Plan for Regulatory Assessment, and ANPRM on Access to and in Smaller Passenger Vessels) may be obtained at no cost by calling the Access Board's automated publications order line (202) 272-0080, by pressing 2 on the telephone keypad, then 1 and requesting publication S-45. Please record your name, address, telephone number and publication code S-45. Persons using a TTY should call (202) 272-0082. Documents are available in alternate formats upon request. Persons who want a publication in an alternate format should specify the type of format (cassette tape, Braille, large print, or ASCII disk). Documents are also available on the Board's Web site (http://www.access-board.gov).

Emil H. Frankel,
Chair, Architectural and Transportation Barriers Compliance Board.

[FR Doc. 04-26000 Filed 11-24-04; 8:45 am]

BILLING CODE 8150-01-P